FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011708-001.

Title: Zim/COSCON Slot Charter Agreement.

Parties: COSCO Container Lines Co., Ltd., Zim Israel Navigation Company, Ltd.

Synopsis: The proposed modification would reduce COSCON's Eastbound and Westbound slot commitment on Zim vessels from 150 TEUs per week to 100 TEUs and Zim's slot commitment on COSCON vessels would be reduced from 100 TEUs per week to 30 TEUs westbound and from 75 TEUs per week to 30 TEUs Eastbound in the trade between the U.S. Atlantic and port on the Mediterranean. The modification would also allow the parties to adjust any slot charter commitments within fifty percent without further amendment.

Agreement No.: 011745-001.

Title: Evergreen/Lloyd Triestino Alliance Agreement.

Parties: Evergreen Marine Corp. (Taiwan) Ltd., Lloyd Triestino Di Navegazione S.P.A.

Synopsis: The proposed amendment adds an additional string to the alliance agreement with five vessels added by Lloyd Triestino and authorizes the parties to charter space from each other.

Agreement No.: 011771.

Title: Seafreight/Crowley Space Charter Agreement.

Parties: Seafreight Line, Ltd, Crowley Liner Service, Inc.

Synopsis: The proposed agreement permits Crowley to space charter on Seafreight vessels in the trade between Jacksonville/Port Everglades (Florida) and Kingston, Jamaica. The parties have requested expedited review.

Agreement No.: 201030-001.

Title: New Orleans/SSA Gulf/P&O Ports Terminal Lease Agreement.

Parties: The Board of Commissioners of the Port of New Orleans.

P&O Ports Gulfport, Inc.

SSA Gulf Terminals, Inc.

Synopsis: The proposed amendment reduces the area covered by the lease and changes the terms of payment. The amendment also takes into account name changes of two of the parties. The basic term of the agreement continues to run until July 23, 2002.

Dated: July 20, 2001.
By Order of the Federal Maritime Commission.
Bryant L. VanBrakle,
Secretary.

[FR Doc. 01-18597 Filed 7-25-01; 8:45 am]

BILLING CODE 6730-01-P